DEPARTMENT OF COMMERCE

National Oceanic and Atmospheric Administration

Proposed Information Collection; Comment Request; Educational Partnership Program (EPP) and Ernest F. Hollings Undergraduate Scholarship Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 21, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Meka Laster, 301-713-9437 or meka.laster@noaa.gov.

SUPPLEMENTARY INFORMATION:

I. Abstract

The National Oceanic and Atmospheric Administration (NOAA) Office of Education (OEd) collects, evaluates and assesses student data and information for the purpose of selecting successful candidates, generating internal NOAA reports and articles to demonstrate the success of its program. The OEd requires applicants to its student scholarship programs to complete an application for NOAA undergraduate and graduate scholarship programs. Part of the application package requires completion of a NOAA student scholar reference form in support of the scholarship application by academic professors/advisors. NOAA OEd student scholar alumni are also requested to provide information to NOAA for internal tracking purposes. NOAA OEd grantees are required to update the student tracker database with the required student information. In addition, the collected student data supports NOAA OEd's program performance measures.

II. Method of Collection

Electronic applications and electronic forms are required from participants, and the primary methods of submittal are email and Internet transmission of electronic forms. Approximately 1% of the application and reference forms may be mailed.

III. Data

OMB Control Number: 0648-0568.

Form Number: None.

Type of Review: Regular submission.

Affected Public: Individuals or households; business or other for-profit organizations; not-for-profit institutions; State, Local or Tribal Government.

Estimated Number of Respondents: 3,496.

Estimated Time Per Response: Student tracker database form, 16 hours; graduate application form, 8 hours; undergraduate application form, 8 hours; reference forms, 1 hour; voluntary alumni update form, 1 hour.

Estimated Total Annual Burden Hours: 11,316.

Estimated Total Annual Cost to Public: $300.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 19, 2010.
Gwellnar Banks,
Management Analyst, Office of the Chief Information Officer.

[FR Doc. 2010-9316 Filed 4-21-10; 8:45 am]

BILLING CODE 3510-12-P